ENVIRONMENTAL PROTECTION AGENCY

40 CFR Part 52

[IN 140-2; FRL-7457-8]

Conditional Approval of Implementation Plan; Indiana; Withdrawal of Direct Final Rule

AGENCY: Environmental Protection Agency (EPA).

ACTION: Withdrawal of direct final rule.

SUMMARY: Due to adverse comments, the EPA is withdrawing the direct final rule which conditionally approved the revisions to Indiana's State Implementation Plan for the Prevention of Significant Deterioration provisions for attainment areas. In the direct final rule published on January 15, 2003 (68 FR 1970), EPA stated that if EPA receives adverse comments by February 14, 2003, the rule would be withdrawn and not take effect. EPA subsequently received adverse comments, and will address these comments in a subsequent final action based upon the proposed action also published on January 15, 2003 (68 FR 1970). EPA will not institute a second comment period on this action.

EFFECTIVE DATE: This direct final rule is withdrawn as of March 3, 2003.

FOR FURTHER INFORMATION CONTACT: Julie Capasso, Environmental Scientist, Permits and Grants Section (IL/IN/OH), Air Programs Branch, (AR-18J), U.S. Environmental Protection Agency, Region 5, 77 West Jackson Boulevard, Chicago, Illinois 60604, telephone (312) 886-1426.

List of Subjects in 40 CFR Part 52

Environmental protection, Air pollution control, Incorporation by reference, Intergovernmental relations, Nitrogen dioxide, Particulate matter, Reporting and recordkeeping requirements, Sulfur oxide, Volatile organic compounds.

Dated: February 19, 2003.
Bharat Mathur,
Acting Regional Administrator, Region 5.

PART 52—[AMENDED]

Accordingly, the addition of 40 CFR 52.770 (c)(147) is withdrawn as of March 3, 2003.

[FR Doc. 03-5023 Filed 2-28-03; 8:45 am]

BILLING CODE 6560-50-P